DEPARTMENT OF COMMERCE

Foreign-Trade Zones Board

[Order No. 1915]

Approval for Manufacturing (Production) Authority, Foreign-Trade Zone 284, Liberty Pumps, Inc. (Submersible and Water Pumps), Bergen, New York

Pursuant to its authority under the Foreign-Trade Zones Act of June 18, 1934, as amended (19 U.S.C. 81a-81u), the Foreign-Trade Zones Board (the Board) adopts the following Order:

Whereas, the Genesee Gateway Local Development Corporation, grantee of Foreign-Trade Zone 284, has requested manufacturing (production) authority on behalf of Liberty Pumps, Inc., within FTZ 284 in Bergen, New York (FTZ Docket 5-2012, filed 1-12-2012);

Whereas, notice inviting public comment has been given in the Federal Register (77 FR 2957, 1-20-2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for manufacturing (production) authority under zone procedures within FTZ 284 on behalf of Liberty Pumps, Inc., as described in the application and Federal Register notice, is approved, subject to the FTZ Act and the Board's regulations, including Section 400.13.

Signed at Washington, DC, this 17th day of September 2013.
Paul Piquado,
Assistant Secretary of Commerce for Import Administration, Alternate Chairman, Foreign-Trade Zones Board.
Attest:
Andrew McGilvray,
Executive Secretary.

[FR Doc. 2013-23075 Filed 9-20-13; 8:45 am]

BILLING CODE 3510-DS-P